DEPARTMENT OF THE TREASURY

Monetary Offices

31 CFR Part 82

Prohibition on the Exportation, Melting, or Treatment of 5-Cent and One-Cent Coins; Correction

AGENCY: United States Mint, Treasury.

ACTION: Correcting amendments.

SUMMARY: This document corrects the United States Mint's regulations that prohibit the exportation, melting, and treatment of 5-cent and one-cent coins. These regulations, added in December 2006, were inadvertently allowed to expire on April 14, 2007. A final rule, which was published in the Federal Register of Monday, April 16, 2007 (72 FR 18880), was intended to extend the effectiveness of these requirements. However, that document failed to set out the revised 31 CFR Part 82 in its entirety, and this document corrects the agency's regulations by doing so.

DATES: Effective on October 29, 2007.

FOR FURTHER INFORMATION CONTACT: Kristie Bowers, Attorney-Advisor, United States Mint, at (202) 354-7631 (not a toll-free call).

SUPPLEMENTARY INFORMATION:

I. Background

The final rule was based on an interim rule, which was published Wednesday, December 20, 2006 (71 FR 76148). The regulations are intended to protect the coinage of the United States, by prohibiting the exportation, melting, and treatment of 5-cent and one-cent coins. The regulations were issued pursuant to 31 U.S.C. 5111(d), which authorizes the Secretary of the Treasury to prohibit or limit the exportation, melting, or treatment of United States coins when the Secretary decides the prohibition or limitation is necessary to protect the coinage of the United States. The regulations' purpose is to ensure that sufficient quantities of 5-cent and one-cent coins remain in circulation to meet the needs of the United States.

II. Need for Correction

The interim rule was scheduled to expire on April 14, 2007, unless extended by a further rulemaking document published in the Federal Register. Because of an administrative oversight, the final rule was published on April 16, 2007, two days after the interim rule had expired. Instead of setting the amended 31 CFR Part 82 out in its entirety, the final rule attempted to adopt the interim rule with certain changes. However, because the interim rule had already expired when the final rule was published, there were no regulations at 31 CFR Part 82 to adopt. This correction is intended to set out the revised 31 CFR Part 82 in its entirety.

List of Subjects in 31 CFR Part 82

Administrative Practice and Procedure, Currency, Penalties.

Authority and Issuance

Accordingly, Chapter 1 of Subtitle B of title 31 of the Code of Federal Regulations is corrected by adding part 82 to read as follows:

PART 82—5-CENT AND ONE-CENT COIN REGULATIONS

Sec.
82.1 Prohibitions.
82.2 Exceptions.
82.3 Definitions.
82.4 Penalties.

Authority: 31 U.S.C. 5111(d).

§ 82.1 Prohibitions.

Except as specifically authorized by the Secretary of the Treasury (or designee) or as otherwise provided in this part, no person shall export, melt, or treat:

(a) Any 5-cent coin of the United States; or

(b) Any one-cent coin of the United States.

§ 82.2 Exceptions.

(a) The prohibition contained in § 82.1 against the exportation of 5-cent coins and one-cent coins of the United States shall not apply to:

(1) The exportation in any one shipment of 5-cent coins and one-cent coins having an aggregate face value of not more than $100 that are to be legitimately used as money or for numismatic purposes. Nothing in this paragraph shall be construed to authorize export for the purpose of sale or resale of coins for melting or treatment by any person.

(2) The exportation of 5-cent coins and one-cent coins carried on an individual, or in the personal effects of an individual, departing from a place subject to the jurisdiction of the United States, when the aggregate face value is not more than $5, or when the aggregate face value is not more than $25 and it is clear that the purpose for exporting such coins is for legitimate personal numismatic, amusement, or recreational use.

(b) The prohibition contained in § 82.1 against the treatment of 5-cent coins and one-cent coins shall not apply to the treatment of these coins for educational, amusement, novelty, jewelry, and similar purposes as long as the volumes treated and the nature of the treatment makes it clear that such treatment is not intended as a means by which to profit solely from the value of the metal content of the coins.

(c) The prohibition contained in § 82.1 against the exportation, melting, or treatment of 5-cent and one-cent coins of the United States shall not apply to coins exported, melted, or treated incidental to the recycling of other materials so long as—

(1) Such 5-cent and one-cent coins were not added to the other materials for their metallurgical value;

(2) The volumes of the 5-cent coins and one-cent coins, relative to the volumes of the other materials recycled, makes it clear that the presence of such coins is merely incidental; and

(3) The separation of the 5-cent and one-cent coins from the other materials would be impracticable or cost prohibitive.

(d) The prohibition contained in § 82.1 against the exportation, melting, or treatment of 5-cent coins shall not apply to 5-cent coins inscribed with the years 1942, 1943, 1944, or 1945 that are composed of an alloy comprising copper, silver and manganese.

(e) The prohibition contained in § 82.1 against the exportation of 5-cent coins and one-cent coins shall not apply to 5-cent coins and one-cent coins exported by a Federal Reserve Bank or a domestic depository institution, or to a foreign central bank, when the exportation of such 5-cent coins and one-cent coins is for use as circulating money.

(f)(1) The prohibition contained in § 82.1 against exportation, melting, or treatment of 5-cent coins and one-cent coins of the United States shall not apply to coins exported, melted, or treated under a written license issued by the Secretary of the Treasury (or designee).

(2) Applications for licenses should be transmitted to the Director, United States Mint, 801 9th Street, NW., Washington, DC 20220.

§ 82.3 Definitions.

(a) 5-cent coin of the United States means a 5-cent coin minted and issued by the Secretary of the Treasury pursuant to 31 U.S.C. 5112(a)(5).

(b) One-cent coin of the United States means a one-cent coin minted and issued by the Secretary of the Treasury pursuant to 31 U.S.C. 5112(a)(6).

(c) Export means to remove, send, ship, or carry, or to take any action with the intent to facilitate a person's removing, sending, shipping, or carrying, from the United States or any place subject to the jurisdiction thereof, to any place outside of the United States or to any place not subject to the jurisdiction thereof.

(d) Person means any individual, partnership, association, corporation, or other organization, but does not include an agency of the Government of the United States.

(e) Treat or treatment means to smelt, refine, or otherwise treat by heating, or by a chemical, electrical, or mechanical process.

§ 82.4 Penalties.

(a) Any person who exports, melts, or treats 5-cent coins or one-cent coins of the United States in violation of § 82.1 shall be subject to the penalties specified in 31 U.S.C. 5111(d), including a fine of not more than $10,000 and/or imprisonment of not more than 5 years.

(b) In addition to the penalties prescribed by 31 U.S.C. 5111(d), a person violating the prohibitions of this part may be subject to other penalties provided by law, including 18 U.S.C. 1001(a).

Dated: October 24, 2007.
Edmund C. Moy,
Director, United States Mint.

[FR Doc. E7-21272 Filed 10-26-07; 8:45 am]

BILLING CODE 4810-02-P